DEPARTMENT OF THE INTERIOR

Bureau of Land Management

[LLIDC0100000.L12200000.IA0000.241A.0; 4500007249]

Notice of Proposed Supplementary Rules for the Blue Creek Bay Public Lands Managed by the Coeur d'Alene Field Office, Kootenai County, ID

AGENCY: Bureau of Land Management, Interior.

ACTION: Proposed Supplementary Rules.

SUMMARY: The Bureau of Land Management (BLM) is proposing supplementary rules for use of 736 acres of public lands in and around Blue Creek Bay on Lake Coeur d'Alene. The proposed supplementary rules would implement decisions from the Blue Creek Bay Recreation Project Plan, approved January 7, 2009. The rules are necessary to protect public land natural resources and provide for the public's health and safety.

DATES: Comments on the proposed supplementary rules must be received in person or postmarked by August 12, 2009, to be assured consideration. In developing final supplementary rules, the BLM may not consider comments postmarked or received in person or by electronic mail after this date.

ADDRESSES: Mail or hand deliver all comments to the Bureau of Land Management, Coeur d'Alene Field Office, 3815 Schreiber Way, Coeur d'Alene, Idaho 83815 or e-mail comments to brian_white@blm.gov.

FOR FURTHER INFORMATION CONTACT: Eric R. Thomson, Field Manager, or Brian White, Outdoor Recreation Planner, Coeur d'Alene Field Office, 3815 Schreiber Way, Coeur d'Alene, Idaho 83815 or call (208) 769-5000.

SUPPLEMENTARY INFORMATION:

I. Public Comment Procedures

This notice and a map of the involved area are available for public review at the BLM Coeur d'Alene Field Office. You may mail or hand deliver comments to the Bureau of Land Management, Coeur d'Alene Field Office, 3815 Schreiber Way, Coeur d'Alene, Idaho 83815 during regular business hours from 7:45 a.m. to 4:30 p.m., Monday through Friday, except federal holidays; or e-mail comments to brian_white@blm.gov. Written comments on the proposed supplementary rules should be specific, confined to issues pertinent to the proposals, and explain the reason for any recommended change. Where possible, your comments should reference the specific section or paragraph of the proposal that you are addressing. The BLM may not necessarily consider or include comments in the administrative record for the final rule that are received after the comment period closes (see DATES) or comments delivered to an address other than that listed above (see ADDRESSES).

Comments, including names, street addresses, and other contact information of respondents, will be available for public review at 3815 Schreiber Way, Coeur d'Alene, Idaho 83815, during regular business hours.

Before including your address, telephone number, e-mail address, or other personal indentifying information in your comment, be advised that your entire comment—including your personal indentifying information—may be made publicly available at any time. While you can ask us in your comment to withhold from public review your personal identifying information, we cannot guarantee that we will be able to do so.

II. Background

Through a series of transactions, the BLM acquired 736 acres of public land surrounding Blue Creek Bay on Lake Coeur d'Alene over a 10-year period. The acquisition generated considerable public interest and required a substantial investment of public funds. The parcels were acquired with the intent of providing public access to the lake while retaining many of the natural elements in close proximity to a rapidly growing urban/suburban area. The key issues are public health and safety and long-term management of a public access site on Lake Coeur d'Alene.

In developing a recreation plan for this area, BLM conducted extensive public outreach in 2007 and 2008 and analyzed alternative levels of development and different management strategies for the area. The plan considered the physical location and characteristics of the area, the natural resource values, recreational opportunities and public input. The Blue Creek Bay Recreation Project Plan, completed in January 2009, identified a modest level of development that included day-use only waterfront facilities, such as a parking area, docks, vault toilet and picnic sites, an upland trailhead and non-motorized trails; and interpretive displays for environmental education. The recreation plan also identified supplementary rules necessary for the safety of the adjacent landowners, public land users, and other visitors to the area.

III. Discussion of Proposed Supplementary Rules

The proposed supplementary rules would implement decisions from the Blue Creek Bay Recreation Project Plan, approved January 7, 2009. The rules are necessary to protect natural resources on public land and provide for the public's health and safety. These supplementary rules would replace five existing restrictions orders and include one new restriction on overnight boat moorage.

The following proposed supplementary rules would implement related decisions from the Blue Creek Bay Recreation Project Plan. Additional background information and justification are included following each proposed rule.

(1) You must not occupy or use the Blue Creek Bay public lands from one hour after sundown to one hour before sunrise.

The subject public lands, easily accessible from and in close proximity to a growing urban center, have attracted a variety of nuisance activities involving local youths, day laborers and drug users; that are incompatible with legitimate uses of the area. Unauthorized uses have included underage drinking parties and illegal drug use, illegal campfires, littering, and vandalism. Many of these activities occur when BLM personnel are not available for patrols or public contact. Numerous complaints have been received from local residents regarding nighttime activities and disturbances, particularly at the log landing area.

The emergency overnight occupancy and use restriction, implemented in April 2008, proved effective in reducing these unauthorized uses of the area. The overnight occupancy and use restriction has provided an additional resource protection tool for BLM Law Enforcement Rangers as well as local law enforcement agencies.

(2) You must not moor any boat overnight on any BLM-managed structure or shoreline.

Local residents strongly objected to overnight use of the subject public lands throughout the planning process. The project plan for this area allows for day-use only, including the proposed boat docks. This rule would clarify that all forms of overnight occupancy and use are prohibited, including moorage at structures in the area. The overnight occupancy and use restriction, in place since April 2008, effectively eliminated overnight moorage and the supplementary rule would continue this restriction.

When the Kootenai County Waterways Board considered the placement of overnight mooring buoys in Blue Creek Bay, the proposal was rejected due to public objections. Although BLM does not manage the lake bottom, rejection of the county's buoy proposal indicates strong public desire for no overnight occupancy in the Blue Creek Bay area.

(3) You must not start or maintain any open campfires, except when the campfire is completely contained within permanently installed steel fire grates or cooking grills.

This supplementary rule would replace an existing fire restriction order that has been in place for several years in this area. Fires have been a continuous problem as some people have constructed huge bonfires from wooden pallets, freshly (and illegally) collected firewood, beer cans and bottles, and various other forms of toxic and non-toxic refuse. Hundreds of nails and remnants from the burned pallets remained in the parking area and resulted in punctured vehicle tires. This proposed rule is also intended to reduce the risk of wildfire in the area, a concern raised by neighboring private landowners and other members of the public during the planning process.

(4) You must not possess a loaded firearm, except that:

A. You may possess firearms legally within a motor vehicle in accordance with Idaho State Code.

B. Waterfowl hunters may transport unloaded shotguns by the most direct route from either the Yellowstone Road or the Landing Road to the mud flat area for the purpose of hunting waterfowl below the high water mark of Lake Coeur d'Alene within Blue Creek Bay.

The proximity of the site to neighboring homes and the fact that the property is entirely surrounded by private land makes firearm use an inherently hazardous situation. The public land area, comprising 736 acres, is not large enough to safely support hunting with firearms and the likelihood of bullets straying onto private land is quite high. As recreation facilities are constructed and public use of the area increases, the concerns for human health and safety also increase and there will be a need to protect the public investment from vandalism by use of firearms. Replacing the existing firearm restriction with this proposed supplementary rule is in the best interest of public safety and protection of future recreation facilities for the public.

The provision for legal waterfowl hunting on lands managed by the Idaho Department of Lands (IDL) is intended to allow this legitimate use to continue on State land accessible only by crossing BLM lands.

(5) You must not use motor vehicles off county roads.

The area's configuration, small size, topography and existing trail conditions make the area impractical for use by off-highway vehicles (OHVs). The area is designated as a limited use area in the 2007 Coeur d'Alene RMP, and the project plan allows no OHV use on trails that will be developed. Because the BLM acquired this area for management and retention of its natural values, OHV use would not be compatible with the trail improvements in this area. The proposed rule will help ensure the public clearly understands the non-motorized nature of the area.

(6) You must not cut or collect firewood.

Firewood cutting restrictions have been in place for several years as the BLM manages the timber and other resources in the area. Due to the area's accessibility and proximity to a large urban/suburban population center, it would be an attractive area for firewood collection by local residents. If firewood cutting and collecting were allowed, areas along the main roads would receive heavy use which would change the character of the forest in those areas. Firewood cutting and collecting is also incompatible with the variety of recreation uses that will be promoted at the site over the next several years.

The supplementary rules are proposed under the authority of the Federal Land Policy and Management Act (FLPMA), 43 U.S.C. 1740 and its implementing regulations at 43 CFR 8365.1-6. This notice, with detailed maps, will be posted at the Coeur d'Alene Field Office. If adopted, all supplementary rules would be clearly posted on the area's kiosks, in addition to perimeter and trail signage typical of recreation sites.

The proposed supplementary rules would implement a recreation plan that has been available for public comment. In these circumstances, a comment period of 30 days provides adequate opportunity for meaningful analysis, and reasonable time within which to formulate comments for submission.

IV. Procedural Matters

Executive Order 12866, Regulatory Planning and Review

These proposed supplementary rules are not a significant regulatory action and are not subject to review by Office of Management and Budget under Executive Order 12866. These proposed supplementary rules will not have an effect of $100 million or more on the economy. They will not adversely affect in a material way the economy, productivity, competition, jobs, the environment, public health or safety, or State, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They merely impose limitations on certain recreational activities on certain public lands to protect natural resources and human health and safety.

Clarity of the Supplementary Rules

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Is the description of the proposed supplementary rules in the “Discussion of Supplementary Rules” section of this preamble helpful to your understanding of the proposed supplementary rules? How could this description be more helpful in making the proposed supplementary rules easier to understand?

Please send any comments you have on the clarity of the supplementary rules to the address specified in the ADDRESSES section.

National Environmental Policy Act

As documented in Environmental Assessment ID-410-2008-EA-60 for Blue Creek Bay Recreation Project Plan and the associated Finding of No Significant Impact and Decision Record, the proposed supplementary rules do not constitute a major Federal action significantly affecting the quality of the human environment under section 102(2)(C) of the National Environmental Policy Act of 1969 (NEPA), 42 U.S.C. 4332(2)(C).

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on certain public lands to protect natural resources and public facilities, and human health and safety. Therefore, BLM has determined under the RFA that these proposed supplementary rules would not have a significant economic impact on a substantial number of small entities.

Small Business Regulatory Enforcement Fairness Act

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These proposed supplementary rules do not impose an unfunded mandate on state, local or tribal governments or the private sector of more than $100 million per year; nor do these proposed supplementary rules have a significant or unique effect on State, local, or tribal governments or the private sector. They would merely impose reasonable restrictions on certain recreational activities on certain public lands to protect natural resources and public facilities, and human health and safety. Therefore, BLM is not required to prepare a statement containing the information required by the Unfunded Mandates Reform Act (2 U.S.C. 1531 et seq.)

Executive Order 12630, Governmental Actions and Interference With Constitutionally Protected Property Rights (Takings)

The proposed supplementary rules are not a government action capable of interfering with constitutionally protected property rights. The proposed supplementary rules do not address property rights in any form, and do not cause the impairment of anybody's property rights. Therefore, the BLM has determined that these proposed supplementary rules would not cause a taking of private property or require further discussion of takings implications under this Executive Order.

Executive Order 13132, Federalism

The proposed supplementary rules will not have a substantial direct effect on the states, on the relationship between the National Government and the States, or on the distribution of power and responsibilities among the various levels of government. Government vehicles are expressly excluded from the effect of the vehicle restrictions. The firearm restrictions in the supplementary rules do not apply to waterfowl hunting with a valid state hunting license on lands below the ordinary high-water mark of Lake Coeur d'Alene; these lands are managed by the Idaho Department of Lands. Therefore, in accordance with Executive Order 13132, BLM has determined that the proposed supplementary rules do not have sufficient federalism implications to warrant preparation of a Federalism Assessment.

Executive Order 12988, Civil Justice Reform

Under Executive Order 12988, the BLM has determined that these proposed supplementary rules would not unduly burden the judicial system and that the requirements of sections 3(a) and 3(b)(2) of the Order are met. The supplementary rules contain rules of conduct for recreational use of certain public lands to protect human health and the environment.

Executive Order 13175, Consultation and Coordination With Indian Tribal Governments

In accordance with Executive Order 13175, the BLM has found that these proposed supplementary rules do not include policies that have tribal implications. The proposed supplementary rules do not affect lands held for the benefit of Indians, Aleuts, or Eskimos.

Paperwork Reduction Act

These proposed supplementary rules do not directly provide for any information collection that the Office of Management and Budget must approve under the Paperwork Reduction Act, 44 U.S.C. 3501 et seq. Any information collection that may result from Federal criminal investigations or prosecutions conducted in enforcing these proposed supplementary rules is exempt from the provisions of the Paperwork Reduction Act of 1995, 44 U.S.C. 3518(c)(1).

Executive Order 13211, Actions Concerning Regulations That Significantly Affect Energy Supply, Distribution, or Use

These proposed supplementary rules do not comprise a significant energy action. The supplementary rules would not have an adverse effect on energy supplies, production, or consumption. They only address actions within a recreation area on BLM land and have no connection with energy policy. The restrictions on vehicle use should have no substantial effect on fuel consumption, and no other provision in the supplementary rules has any relationship to energy supply, distribution, or use.

Author

The principal author of these supplementary rules is Brian White, Outdoor Recreation Planner, Coeur d'Alene Field Office, Bureau of Land Management.

For the reasons stated previously, and under the authority for supplementary rules at 43 U.S.C. 1740 and 43 CFR 8365.1-6, the Idaho State Director, Bureau of Land Management, proposes to issue these supplementary rules for the public lands in the Blue Creek Bay area managed by the BLM Coeur d'Alene Field Office, to read as follows:

Supplementary Rules for the Blue Creek Bay Public Lands Managed by the Coeur d'Alene Field Office, Kootenai County, ID

Supplementary Rules

These supplementary rules apply, except as specifically exempted, to the following described public land, all of which are contiguous lands in Boise Meridian, Kootenai County, Idaho:

T. 50 N., R. 2 W.,

Sec. 31, lots 5 to 8, inclusive, and E½NE¼SW¼.

T. 50 N., R. 3 W.,

Sec. 26, portion of SW¼ lying south and west of Sunnyside Road;

Sec. 35, portions of lots 1, 2, and 7, lots 4, 5, and 6, W½NE¼, and N½NW¼.

T. 49 N., R. 2 W.,

Sec. 6, lot 4.

T. 49 N., R. 3 W.,

Sec. 1, portions of lots 1, 2, 5, and 6.

1. You must not occupy or use the Blue Creek Bay public lands from one hour after sundown to one hour before sunrise.

2. You must not moor any boat overnight on any BLM-managed structure or shoreline.

3. You must not start or maintain any open campfires, except when they are completely contained within permanently installed steel fire grates or cooking grills.

4. You must not possess a loaded firearm, except that:

A. You may possess a firearm legally within a motor vehicle in accordance with Idaho State Code.

B. Waterfowl hunters may transport unloaded shotguns by the most direct route from either the Yellowstone Road or the Landing Road to the mud flat area for the purpose of hunting waterfowl below the high water mark of Lake Coeur d'Alene within Blue Creek Bay.

5. You must not use motor vehicles off county roads.

6. You must not cut or collect firewood.

Exceptions

These supplementary rules do not apply to emergency, law enforcement, and Federal or other government entities while conducting official or emergency duties. Motor vehicle restrictions likewise do not apply to emergency, law enforcement, and Federal or other government motor vehicles while conducting official or emergency duties. Exemptions to these supplementary rules may be granted on a case-by-case basis as deemed appropriate by the Authorized Officer.

The prohibition of firearm possession in rule 4 has no effect on hunting by licensed hunters in legitimate pursuit of waterfowl on lands managed by Idaho Department of Lands during the proper season with appropriate firearms.

Enforcement

Any person who violates any of these supplementary rules may be tried before a United States Magistrate and fined no more than $1,000, or imprisoned for no more than 12 months, or both. 43 U.S.C. 1733(a); 43 CFR 8360.0-7; 43 CFR 2932.57(b). Such violations may also be subject to the enhanced fines provided for by 18 U.S.C. 3571. In accordance with 43 CFR 8365.1-7, State or local officials may also impose penalties for violations of Idaho law.

Peter J. Ditton,
Acting Idaho State Director.

[FR Doc. E9-16426 Filed 7-10-09; 8:45 am]

BILLING CODE 4310-GG-P